DEPARTMENT OF HOMELAND SECURITY

Federal Emergency Management Agency

[Docket ID FEMA-2020-0002; Internal Agency Docket No. FEMA-B-2021]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alaska: Juneau | City and Borough of Juneau (19-10-1198P). | The Honorable Beth Weldon, Mayor, City and Borough of Juneau, 155 South Seward Street, Juneau, AK 99801. | Community Development Department, 155 South Seward Street, Juneau, AK 99801. | https://msc.fema.gov/portal/advanceSearch | May 26, 2020 | 020009
Colorado:
Larimer | City of Fort Collins (19-08-0751P). | The Honorable Wade Troxell, Mayor, City of Fort Collins, P.O. Box 580, Fort Collins, CO 80522. | Utilities Department, 700 Wood Street, Fort Collins, CO 80522. | https://msc.fema.gov/portal/advanceSearch | Jun. 15, 2020 | 080102
Larimer | Unincorporated areas of Larimer County (19-08-0751P). | The Honorable Steve Johnson, Chairman, Larimer County Board of Commissioners, 200 West Oak Street, Fort Collins, CO 80521. | Larimer County Engineering Department, 200 West Oak Street, 3rd Floor, Fort Collins, CO 80521. | https://msc.fema.gov/portal/advanceSearch | Jun. 15, 2020 | 080101
Connecticut: Fairfield | Town of Greenwich (19-01-1421P). | The Honorable Peter J. Tesei, First Selectman, Town of Greenwich Board of Selectmen, 101 Field Point Road, Greenwich, CT 06830. | Planning and Zoning Department, 101 Field Point Road, Greenwich, CT 06830. | https://msc.fema.gov/portal/advanceSearch | May 26, 2020 | 090008
Florida:
Collier | City of Marco Island, (20-04-0464P). | Mr. Michael T. McNees, City of Marco Island Manager, 50 Bald Eagle Drive, Marco Island, FL 34145. | Building Services Department, 50 Bald Eagle Drive, Marco Island, FL 34145. | https://msc.fema.gov/portal/advanceSearch | May 29, 2020 | 120426
Monroe | Village of Islamorada, (20-04-0305P). | The Honorable Mike Forster, Mayor, Village of Islamorada, 86800 Overseas Highway, Islamorada, FL 33036. | Building Department, 86800 Overseas Highway, Islamorada, FL 33036. | https://msc.fema.gov/portal/advanceSearch | May 28, 2020 | 120424
Monroe | Village of Islamorada, (20-04-0572P). | The Honorable Mike Forster, Mayor, Village of Islamorada, 86800 Overseas Highway, Islamorada, FL 33036. | Building Department, 86800 Overseas Highway, Islamorada, FL 33036. | https://msc.fema.gov/portal/advanceSearch | Jun. 18, 2020 | 120424
Orange | City of Orlando (19-04-3438P). | The Honorable Buddy Dyer, Mayor, City of Orlando, 400 South Orange Avenue, Orlando, FL 32801. | City Hall, 400 South Orange Avenue, Orlando, FL 32801. | https://msc.fema.gov/portal/advanceSearch | Jun. 17, 2020 | 120186
Volusia | City of New Smyrna Beach (19-04-6280P). | The Honorable Russ Owen, Mayor, City of New Smyrna Beach, 210 Sams Avenue, New Smyrna Beach, FL 32168. | Engineering Department, 2650 North Dixie Freeway, New Smyrna Beach, FL 32168. | https://msc.fema.gov/portal/advanceSearch | Jun. 26, 2020 | 125132
Georgia: Bryan | Unincorporated areas of Bryan County (19-04-3361P). | Mr. Carter Infinger, Chairman, Bryan County Board of Commissioners, P.O. Box 430, Pembroke, GA 31321. | Bryan County Department of Community Development, 66 Captain Matthew Freeman Drive, Suite 201, Richmond Hill, GA 31324. | https://msc.fema.gov/portal/advanceSearch | Jun. 19, 2020 | 130016
Montana:
Butte-Silver Bow | Unincorporated areas of Butte-Silver Bow County (19-08-0805P). | The Honorable Dave Palmer, Chief Executive, Butte-Silver Bow County, 155 West Granite Street, Room 106, Butte, MT 59701. | Butte-Silver Bow County Planning Department, 155 West Granite Street, Room 108, Butte, MT 59701. | https://msc.fema.gov/portal/advanceSearch | Jun. 25, 2020 | 300077
Gallatin | City of Bozeman (19-08-0850P). | Mr. Dennis M. Taylor, City of Bozeman Manager, P.O. Box 1230, Bozeman, MT 59771. | City Hall, 20 East Olive Street, Bozeman, MT 59715. | https://msc.fema.gov/portal/advanceSearch | Jun. 22, 2020 | 300028
Gallatin | Unincorporated areas of Gallatin County (19-08-0850P). | The Honorable Joe P. Skinner, Chairman, Gallatin County Commission, 311 West Main Street, Room 306, Bozeman, MT 59715. | Gallatin County Department of Planning and Community Development, 311 West Main Street, Room 108, Bozeman, MT 59715. | https://msc.fema.gov/portal/advanceSearch | Jun. 22, 2020 | 300027
North Dakota: Cass | City of Fargo (19-08-0515P). | The Honorable Tim Mahoney, Mayor, City of Fargo, 225 4th Street North, Fargo, ND 58102. | City Hall, 225 4th Street North, Fargo, ND 58102. | https://msc.fema.gov/portal/advanceSearch | Jun. 9, 2020 | 385364
Pennsylvania:
Lancaster | Township of East Hempfield (19-03-0983P). | The Honorable H. Scott Russell, Chairman, Township of East Hempfield Board of Supervisors, 1700 Nissley Road, Landisville, PA 17538. | Township Hall, 1700 Nissley Road, Landisville, PA 17538. | https://msc.fema.gov/portal/advanceSearch | Jun. 23, 2020 | 420548
Montgomery | Township of Whitemarsh (19-03-1803P). | The Honorable Laura Boyle-Nester, Chair, Township of Whitemarsh Board of Supervisors, 616 Germantown Pike, Lafayette Hill, PA 19444. | Township Hall, 616 Germantown Pike, Lafayette Hill, PA 19444. | https://msc.fema.gov/portal/advanceSearch | Jun. 23, 2020 | 420712
South Carolina: Georgetown | Unincorporated areas of Georgetown County (19-04-6539P). | Mr. Sel Hemingway, Georgetown County Administrator, 716 Prince Street, Georgetown, SC 29440. | Georgetown County Building Department, 129 Screven Street, Georgetown, SC 29440. | https://msc.fema.gov/portal/advanceSearch | Jun. 11, 2020 | 450085
Texas:
Bexar | City of San Antonio (19-06-1791P). | The Honorable Ron Nirenberg, Mayor, City of San Antonio, P.O. Box 839966, San Antonio, TX 78283. | Transportation and Capitol Improvements Department, Storm Water Division, 114 West Commerce Street, 7th Floor, San Antonio, TX 78204. | https://msc.fema.gov/portal/advanceSearch | May 18, 2020 | 480045
Bexar | Unincorporated areas of Bexar County (19-06-1791P). | The Honorable Nelson W. Wolff, Bexar County Judge, 101 West Nueva Street, 10th Floor, San Antonio, TX 78205. | Bexar County Public Works Department, 1948 Probandt Street, San Antonio, TX 78214. | https://msc.fema.gov/portal/advanceSearch | May 18, 2020 | 480035
Tarrant | City of Fort Worth (19-06-3049P). | The Honorable Betsy Price, Mayor, City of Fort Worth, 200 Texas Street, Fort Worth, TX 76102. | Transportation and Public Works, Engineering Department, 200 Texas Street, Fort Worth, TX 76102. | https://msc.fema.gov/portal/advanceSearch | Jun. 18, 2020 | 480596
Travis | City of Austin (19-06-1200P). | The Honorable Stephen Adler, Mayor, City of Austin, P.O. Box 1088, Austin, TX 78767. | Watershed Protection Department, 505 Barton Springs Road, 12th Floor, Austin, TX 78704. | https://msc.fema.gov/portal/advanceSearch | Jun. 29, 2020 | 480624
Virginia: Prince William | Unincorporated areas of Prince William County (19-03-0954P). | Mr. Christopher E. Martino, Prince William County Executive, 1 County Complex Court, Prince William, VA 22192. | Prince William County Department of Public Works, 5 County Complex Court, Prince William, VA 22192. | https://msc.fema.gov/portal/advanceSearch | Jun. 18, 2020 | 510119

[FR Doc. 2020-05770 Filed 3-19-20; 8:45 am]

BILLING CODE 9110-12-P